DEPARTMENT OF COMMERCE

International Trade Administration

[A-791-809]

Notice of Rescission of Antidumping Administrative Review: Certain Hot-Rolled Carbon Steel Flat Products from South Africa

AGENCY: Import Administration, International Trade Administration, U.S. Department of Commerce.

SUMMARY: On October 24, 2003, the Department of Commerce (the Department) initiated an administrative review of Highveld Steel and Vanadium Corporation, Ltd., Iscor (Pty) Ltd., and Saldanha Steel Limited under the antidumping duty order on certain hot-rolled carbon steel flat products from South Africa, covering the period of September 1, 2002 through August 31, 2003. See Initiation of Antidumping and Countervailing Duty Administrative Reviews, 68 FR 60910 (October 24, 2003). Since all of the parties that requested a review have withdrawn their requests, the Department is rescinding this review in accordance with section 351.213 (d)(1) of the Department's regulations.

EFFECTIVE DATE: April 21, 2004.

FOR FURTHER INFORMATION CONTACT: Christian Hughes or Elfi Blum-Page, AD/CVD Enforcement Group III, Office 7, Import Administration, International Trade Administration, U.S. Department of Commerce, 14th Street and Constitution Avenue, N.W., Washington D.C. 20230; telephone (202) 482-0190 and (202)482-0197, respectively.

SUPPLEMENTARY INFORMATION:

Background

On September 19, 2001, the Department published, in the Federal Register, the antidumping duty order on certain hot-rolled carbon steel flat products from South Africa

(66 FR 48242). On September 2, 2003, the Department published an opportunity to request a review of this antidumping duty order. See Antidumping or Countervailing Duty Order, Finding, or Suspended Investigation; Opportunity to Request Administrative Review, 68 FR 52181 (September 2, 2003). On September 30, 2003, in accordance with section 351.213(b) of the Department's regulations, petitioner, United States Steel Corporation (USSC), requested a review of the antidumping duty order on certain hot-rolled carbon steel flat products from South Africa for exports of subject merchandise made by Highveld Steel and Vanadium Corporation, Ltd. (Highveld), Iscor (Pty) Ltd. (Iscor), and Saldanha Steel Limited (Saldanha). On September 30, 2003, Iscor also requested a review of this antidumping duty order with respect to its exports to the United States. On October 24, 2003, the Department initiated the administrative review covering the period from September 1, 2002 through August 31, 2003. See Initiation of Antidumping and Countervailing Duty Administrative Reviews, 68 FR 60910 (October 24, 2003).

On November 21, 2003, the Department issued questionnaires to Highveld, Saldanha, and Iscor. On December 1, 2003, Iscor withdrew its request for review. On January 5, 2004, Iscor and Saldanha submitted a letter to the Department stating that they were unable to respond to the Department's questionnaire. On January 21, 2004, the Department received responses to Sections A, C, and D from Highveld. On January 22, 2004, USSC withdrew its request for review with respect to Highveld, Iscor, and Saldanha in accordance with section 351.213(d)(1) of the Department's regulations.

Rescission of Administrative Review

According to section 351.213(d)(1) of the Department's regulations, the Department will rescind an administrative review “if a party that requested the review withdraws the request within 90 days of the date of publication of notice of initiation of the requested review.” All withdrawal requests were submitted within the normal time limit as prescribed in section 351.213(d)(1) of the Department's regulations. Since there were no other requests for review from any other interested party, the Department finds it appropriate to accept the withdrawal requests and is rescinding the review. The Department will issue appropriate assessment instructions directly to U.S. Customs and Border Protection (CBP) within 15 days of publication of this notice. The Department will direct the CBP to assess antidumping duties for each company at the cash deposit rate in effect on the date of entry for entries during the period September 1, 2002 through August 31, 2003.

Notification of Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This determination and notice are issued and published in accordance with sections 751(a)(2)(c) and 777(I)(1) of the Tariff Act of 1930, as amended, and section 351.213(d)(4) of the Department's regulations.

Dated: April 9, 2004.
James J. Jochum,
Assistant Secretary for Import Administration.

[FR Doc. 04-9055 Filed 4-20-04; 8:45 am]

BILLING CODE 3510-DS-S